DEPARTMENT OF TRANSPORTATION

14 CFR Part 97

[Docket No. 30612; Amdt. No. 3273]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective June 13, 2008. The compliance date for each SIAP, associated Takeoff Minimums, and ODP is specified in the amendatory provisions.

The incorporation by reference of certain publications listed in the regulations is approved by the Director of the Federal Register as of June 13, 2008.

ADDRESSES: Availability of matter incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Bra nch (AFS-420) Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under DOT Regulatory Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on May 30, 2008.
James J. Ballough,
Director, Flight Standards Service.

Adoption of the Amendment

Accordingly, pursuant to the authority delegated to me, Title 14, Code of Federal Regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS/DME, MLS/RNAV; § 97.31 RADAR SIAPs; § 97.33 RNAV SIAPs; and § 97.35 COPTER SIAPs, Identified as follows:

Effective Upon Publication

FDC date | State | City | Airport | FDC No. | Subject
04/25/08 | KS | Wichita | Wichita Mid-Continent | 8/5001 | ILS or LOC Rwy 1R, Amdt 17A. This Notam Published in TL 08-12 Is Hereby Rescinded in Its Entirety.
05/13/08 | MN | Cloquet | Cloquet Carlton County | 8/7372 | NDB or GPS Rwy 17, Amdt 3B. This Notam Published in TL 08-13 Is Hereby Rescinded in Its Entirety.
05/15/08 | IN | Indianapolis | Indianapolis Intl | 8/7631 | ILS or LOC Rwy 32, Amdt 18.
05/15/08 | IN | Indianapolis | Indianapolis Intl | 8/7632 | ILS or LOC Rwy 14, Amdt 5B.
05/15/08 | IN | Indianapolis | Indianapolis Intl | 8/7633 | ILS or LOC Rwy 23R, Amdt 3A.
05/15/08 | IN | Indianapolis | Indianapolis Intl | 8/7634 | ILS or LOC Rwy 23L, Amdt 5.
05/15/08 | IN | Indianapolis | Indianapolis Intl | 8/7635 | ILS or LOC Rwy 5L Amdt 3...ILS Rwy 5L (Cat II) Amdt 3...ILS Rwy 5L (Cat III) Amdt 3.
05/15/08 | IN | Indianapolis | Indianapolis Intl | 8/7636 | ILS or LOC Rwy 5R Amdt 5...ILS Rwy 5R (CAT II) Amdt 5...ILS Rwy 5R (CAT III) Amdt 5.
05/15/08 | IN | Marion | Marion Muni | 8/7637 | RNAV (GPS) Rwy 22, Orig.
05/15/08 | MA | Westfield/Springfield | Barnes Muni | 8/7649 | ILS or LOC Rwy 20, Amdt 6.
05/15/08 | NJ | Newark | Newark Liberty Intl | 8/7651 | ILS or LOC Rwy 22R, Amdt 4.
05/15/08 | KY | Lexington | Blue Grass | 8/7652 | RNAV (GPS) Rwy 4, Amdt 1.
05/15/08 | CA | Vacaville | Nut Tree | 8/7654 | VOR-A, Amdt 4B.
05/16/08 | AR | Stuttgart | Stuttgart Muni | 8/7829 | VOR/DME A, Amdt 1A.
05/16/08 | AR | Stuttgart | Stuttgart Muni | 8/7830 | RNAV (GPS) Rwy 9, Orig.
05/16/08 | AR | Stuttgart | Stuttgart Muni | 8/7831 | RNAV (GPS) Rwy 27, Amdt 1.
05/16/08 | AR | Stuttgart | Stuttgart Muni | 8/7832 | RNAV (GPS) Rwy 18, Amdt 1.
05/16/08 | AR | Stuttgart | Stuttgart Muni | 8/7833 | RNAV (GPS) Rwy 36, Amdt 1.
05/16/08 | AR | Stuttgart | Stuttgart Muni | 8/7835 | ILS or LOC Rwy 36, Orig.
05/16/08 | AR | Stuttgart | Stuttgart Muni | 8/7836 | NDB Rwy 18, Amdt 10B.
05/16/08 | AR | Pine Bluff | Grider Field | 8/7842 | RNAV (GPS) Rwy 18, Orig-A.
05/16/08 | AR | Pine Bluff | Grider Field | 8/7844 | VOR/DME Rwy 36, Amdt 12.
05/16/08 | AR | Pine Bluff | Grider Field | 8/7845 | VOR Rwy 18, Amdt 20.
05/16/08 | AR | Pine Bluff | Grider Field | 8/7846 | ILS or LOC Rwy 18, Amdt 3.
05/16/08 | IA | Atlantic | Atlantic Muni | 8/7864 | NDB Rwy 12, Amdt 9A.
05/16/08 | IA | Harlan | Harlan Muni | 8/7865 | GPS Rwy 15, Orig.
05/16/08 | OK | Tulsa | Tulsa Intl | 8/7877 | RNAV (GPS) Rwy 8, Orig.
05/16/08 | CA | Ontario | Ontario Intl | 8/7918 | ILS Rwy 26L, Amdt 7B.
05/16/08 | CA | Riverside | Riverside Muni | 8/7919 | ILS Rwy 9, Amdt 7A.
05/16/08 | CA | Hawthorne | Jack Northrop Field/Hawthorne Muni | 8/7920 | VOR or GPS Rwy 25, Amdt 15A.
05/16/08 | CA | Hawthorne | Jack Northrop Field/Hawthorne Muni | 8/7921 | LOC Rwy 25, Amdt 10A.
05/16/08 | WA | Spokane | Spokane Intl | 8/7922 | RNAV (GPS) Rwy 21, Orig-C.
05/16/08 | WA | Spokane | Spokane Intl | 8/7923 | RNAV (GPS) Rwy 3, Orig-D.
05/19/08 | MO | Warrensburg | Skyhaven | 8/8013 | VOR/DME A, Amdt 2.
05/19/08 | MO | Warrensburg | Skyhaven | 8/8014 | RNAV (GPS) Rwy 18, Orig-A.
05/19/08 | MO | Warrensburg | Skyhaven | 8/8015 | RNAV (GPS) Rwy 36, Orig-A.
05/19/08 | ME | Rangeley | Steven A. Bean Muni | 8/8048 | NDB or GPS-A, Amdt 4A.
05/19/08 | NC | Goldsboro | Goldsboro-Wayne Muni | 8/8077 | ILS or LOC Rwy 23, Amdt 1.
05/19/08 | TN | Millington | Charles W. Baker | 8/8078 | GPS Rwy 36, Orig-A.
05/19/08 | MO | Ava | Ava Bill Martin Memorial | 8/8097 | GPS Rwy 31, Orig.
05/19/08 | NY | New York | John F. Kennedy Intl | 8/8140 | ILS or LOC Rwy 31R, Amdt 15.
05/19/08 | NY | New York | John F. Kennedy Intl | 8/8141 | ILS or LOC Rwy 31L, Amdt 10A.
05/19/08 | OK | Hobart | Hobart Muni | 8/8144 | RNAV (GPS) Rwy 35, Amdt 1.
05/19/08 | OH | West Union | Alexander Salamon | 8/8145 | RNAV (GPS) Rwy 5, Orig.
05/20/08 | CA | Imperial | Imperial County | 8/8271 | VOR or GPS-A, Amdt 4.
05/20/08 | MN | Waseca | Waseca Muni | 8/8289 | VOR or GPS-A, Amdt 4.
05/20/08 | MN | Waseca | Waseca Muni | 8/8290 | NDB or GPS Rwy 15, Amdt 4.
05/21/08 | TX | Brownsville | Brownsville/South Padre Island Intl | 8/8410 | LOC BC Rwy 31L, Amdt 11A.
05/21/08 | NJ | Newark | Newark Liberty Intl | 8/8439 | ILS Rwy 11, Amdt 1.
05/21/08 | CA | Daggett | Barstow-Daggett | 8/8446 | RNAV (GPS) Rwy 26, Orig-A.
05/21/08 | CA | Daggett | Barstow-Daggett | 8/8447 | RNAV (GPS) Rwy 22, Orig.
05/21/08 | NJ | Wildwood | Cape May County | 8/8468 | RNAV (RPS) Rwy 10, Orig.
05/21/08 | NJ | Wildwood | Cape May County | 8/8469 | RNAV (GPS) Rwy 19, Orig.
05/21/08 | NJ | Wildwood | Cape May County | 8/8470 | LOC Rwy 19, Amdt 6A.
05/21/08 | NJ | Wildwood | Cape May County | 8/8471 | VOR-A, Amdt 3A.
05/21/08 | PA | Butler | Butler County/KW Scholter Fld | 8/8525 | ILS or LOC Rwy 8, Amdt 7.
05/21/08 | PA | Butler | Butler County/KW Scholter Fld | 8/8526 | RNAV (GPS) Rwy 8, Orig.
05/21/08 | MO | St Louis | Spirit of St Louis | 8/8557 | ILS Rwy 8R, Amdt 13B.
05/21/08 | NM | Farmington | Four Corners Rgnl | 8/8558 | ILS or LOC Rwy 25, Amdt 7A.
05/21/08 | NM | Farmington | Four Corners Rgnl | 8/8559 | RNAV (GPS) Rwy 25, Orig.
05/21/08 | NM | Farmington | Four Corners Rgnl | 8/8560 | VOR/DME Rwy 7, Amdt 4.
05/21/08 | MO | St Louis | Spirit Of St Louis | 8/8561 | ILS Rwy 26L, Orig.
05/21/08 | ND | Fargo | Fargo/Hector Intl | 8/8572 | VOR/DME or TACAN Rwy 18, Amdt 1A.
05/21/08 | LA | Many | Hart | 8/8582 | Take Off Minimums and (Obstacle) Departure Procedures.
05/22/08 | LA | Shreveport | Shreveport Regional | 8/8623 | RNAV (GPS) Rwy 32, Orig.
05/22/08 | LA | Shreveport | Shreveport Regional | 8/8624 | RNAV (GPS) Rwy 5, Orig.
05/22/08 | LA | Shreveport | Shreveport Regional | 8/8625 | RNAV (GPS) Rwy 23, Orig-A.
05/22/08 | LA | Shreveport | Shreveport Regional | 8/8626 | RNAV (GPS) Rwy 14, Orig.
05/22/08 | LA | New Orleans | Louis Armstrong New Orleans Intl | 8/8746 | RNAV (GPS) Rwy 10, Orig.
05/22/08 | LA | New Orleans | Louis Armstrong New Orleans Intl | 8/8747 | VOR/DME Rwy 10, Orig-A.
05/22/08 | OH | New Lexington | Perry County | 8/8759 | VOR/DME OR GPS Rwy 26, Amdt 1.
05/22/08 | AR | Fort Smith | Fort Smith Rgnl | 8/8760 | ILS Rwy 7, Orig-A.
05/22/08 | AR | Fort Smith | Fort Smith Rgnl | 8/8761 | RNAV (GPS) Rwy 7, Orig-A.
05/22/08 | AR | Fort Smith | Fort Smith Rgnl | 8/8764 | VOR/DME or TACAN Rwy 7, Amdt 11A.
05/22/08 | AR | Fort Smith | Fort Smith Rgnl | 8/8766 | RADAR-1, Amdt 8A.
05/22/08 | IA | Charles City | Northeast Iowa Rgnl | 8/8767 | NDB or GPS Rwy 12, Orig-D.
05/22/08 | IA | Charles City | Northeast Iowa Rgnl | 8/8769 | LOC Rwy 12, Orig-D.
05/22/08 | AR | Fort Smith | Fort Smith Rgnl | 8/8770 | VOR or TACAN Rwy 25, Amdt 20F.
05/22/08 | AR | Fort Smith | Fort Smith Rgnl | 8/8771 | RNAV (GPS) Rwy 25, Orig-A.
05/22/08 | AR | Fort Smith | Fort Smith Rgnl | 8/8773 | ILS or LOC Rwy 25, Amdt 21C.
05/22/08 | TX | San Angelo | San Angelo Regional/Mathis Fld | 8/8790 | VOR/DME or TACAN Rwy 3, Orig.

[FR Doc. E8-12864 Filed 6-12-08; 8:45 am]

BILLING CODE 4910-13-P